DEPARTMENT OF ENERGY

Federal Energy Regulatory Commission

Combined Notice of Filings #2

Take notice that the Commission received the following electric rate filings:

Docket Numbers: ER13-1589-002.

Applicants: Midcontinent Independent System Operator, Inc.

Description: Midcontinent Independent System Operator, Inc. submits tariff filing per 35.19a(b): Refund Report_RockGen Energy to be effective N/A.

Filed Date: 12/18/18.

Accession Number: 20181218-5299.

Comments Due: 5 p.m. ET 1/8/19.

Docket Numbers: ER18-642-002.

Applicants: Midcontinent Independent System Operator, Inc.

Description: Midcontinent Independent System Operator, Inc. submits tariff filing per 35.19a(b): Refund Report_Settlers Trail Wind Farm to be effective N/A.

Filed Date: 12/18/18.

Accession Number: 20181218-5298.

Comments Due: 5 p.m. ET 1/8/19.

Docket Numbers: ER18-2477-000.

Applicants: DXT Commodities North America LLC.

Description: Response of DXT Commodities North America LLC to November 2, 2018 Deficiency Letter.

Filed Date: 12/17/18.

Accession Number: 20181217-5398.

Comments Due: 5 p.m. ET 1/7/19.

Docket Numbers: ER18-2520-002.

Applicants: California Independent System Operator Corporation.

Description: Compliance filing: 2018-12-18 Aliso Canyon Phase 4 Compliance to be effective 11/30/2018.

Filed Date: 12/18/18.

Accession Number: 20181218-5284.

Comments Due: 5 p.m. ET 1/8/19.

Docket Numbers: ER19-328-001.

Applicants: Midcontinent Independent System Operator, Inc.

Description: Tariff Amendment: 2018-12-18_Amendment to Schedule 28 revisions related to Order 831 to be effective 12/31/9998.

Filed Date: 12/18/18.

Accession Number: 20181218-5281.

Comments Due: 5 p.m. ET 1/8/19.

Docket Numbers: ER19-587-000.

Applicants: ALLETE, Inc., Midcontinent Independent System Operator, Inc.

Description: § 205(d) Rate Filing: 2018-12-18_SA 3210 MP-SWLP TALA to be effective 8/25/2010.

Filed Date: 12/18/18.

Accession Number: 20181218-5110.

Comments Due: 5 p.m. ET 1/8/19.

Docket Numbers: ER19-588-000.

Applicants: PJM Interconnection, L.L.C.

Description: § 205(d) Rate Filing: Revised SA No. 1313 NITSA Among PJM and Central Virginia Electric Cooperative to be effective 12/1/2018.

Filed Date: 12/18/18.

Accession Number: 20181218-5122.

Comments Due: 5 p.m. ET 1/8/19.

Docket Numbers: ER19-589-000.

Applicants: New York Independent System Operator, Inc.

Description: § 205(d) Rate Filing: 205 filing of SGIA among NYISO, LIPA and Riverhead SA No. 2436 to be effective 11/29/2018.

Filed Date: 12/18/18.

Accession Number: 20181218-5175.

Comments Due: 5 p.m. ET 1/8/19.

Docket Numbers: ER19-590-000.

Applicants: The Connecticut Light and Power Company.

Description: § 205(d) Rate Filing: Cricket Valley Energy Center Related Facilities Agreement to be effective 2/17/2019.

Filed Date: 12/18/18.

Accession Number: 20181218-5296.

Comments Due: 5 p.m. ET 1/8/19.

Docket Numbers: ER19-591-000.

Applicants: Cedars Rapids Transmission Company Limit.

Description: Tariff Cancellation: Notice of Cancellation of Market-Based Rate Tariff to be effective 2/17/2019.

Filed Date: 12/18/18.

Accession Number: 20181218-5330.

Comments Due: 5 p.m. ET 1/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2018.
Nathaniel J. Davis, Sr.,
Deputy Secretary.

[FR Doc. 2018-27967 Filed 12-26-18; 8:45 am]

BILLING CODE 6717-01-P